DEPARTMENT OF HOUSING AND URBAN DEVELOPMENT

[Docket No. FR-6435-N-01]

Manufactured Housing Consensus Committee (MHCC): Notice Inviting Nominations of Individuals To Serve on the Committee

AGENCY: Office of the Assistant Secretary for Housing—Federal Housing Commissioner, HUD.

ACTION: Notice of request for nominations to serve on the Manufactured Housing Consensus Committee.

SUMMARY: The Department of Housing and Urban Development (HUD or the Department) invites the public to nominate individuals for appointment, with the approval of the Secretary, to the Manufactured Housing Consensus Committee (MHCC), a Federal advisory committee established by the National Manufactured Housing Construction and Safety Standards Act of 1974, as amended by the Manufactured Housing Improvement Act of 2000. HUD will make appointments from nominations submitted in response to this Notice but prior nominations on file will not be considered for appointments. Individuals that applied under the previous Notice are strongly encouraged to re-apply under this Notice. Current MHCC members whose first term ends on December 31, 2023, are eligible for reappointment, but will need to submit their nomination to be considered.

DATES: The Department will accept nominations until March 11, 2024.

ADDRESSES: Nominations must be submitted through the following website: https://mhcc.homeinnovation.com/Application.aspx. Submitted nominations must be addressed to: Teresa B. Payne, Administrator, Office of Manufactured Housing Programs, Department of Housing and Urban Development, c/o Home Innovation Research Labs; Attention: Kevin Kauffman, 400 Prince Georges Blvd., Upper Marlboro, MD 20774.

FOR FURTHER INFORMATION CONTACT: Teresa B. Payne, Administrator, Office of Manufactured Housing Programs, Department of Housing and Urban Development, 451 7th Street SW, Room 9166, Washington, DC 20410; telephone 202-402-2698 (this is not a toll-free number), email mhcc@hud.gov. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

Background

Section 604 of the Manufactured Housing Improvement Act of 2000 (Pub. L. 106-569) amended the National Manufactured Housing Construction and Safety Standards Act of 1974 (42 U.S.C. 5401-5426) (the Act) to require the establishment of the Manufactured Housing Consensus Committee (MHCC), a Federal advisory committee, to: (1) provide periodic recommendations to the Secretary to adopt, revise, and interpret the manufactured housing construction and safety standards; and (2) provide periodic recommendations to the Secretary to adopt, revise, and interpret the procedural and enforcement manufactured housing regulations. The Act authorizes the Secretary to appoint a total of twenty-two members to the MHCC. Twenty-one members have voting rights; the twenty-second member represents the Secretary and is a non-voting position. Service on the MHCC is voluntary. Travel and per diem for meetings is provided in accordance with Federal travel policy pursuant to 5 U.S.C. 5703.

HUD encourages nominations from highly qualified and motivated individuals of diverse backgrounds, interests, and experience, who meet the requirements set forth in the Act to serve as voting members of the MHCC for up to two terms of three years each. The MHCC expects to meet at least one to two times annually. Meetings may take place by conference call, virtually, or in person. Members of the MHCC undertake additional work commitments on subcommittees and task forces regarding issues under deliberation.

Nominee Selection and Appointment

Members of the MHCC are appointed to serve in one of three member categories. Nominees will be appointed to fill voting member vacancies in the following categories:

1. Producers—Seven individuals from producers or retailers of manufactured housing.

2. Users—Seven individuals representing consumer interests, such as consumer organizations, recognized consumer leaders, and owners who are residents of manufactured homes.

3. General Interest and Public Officials—Seven general interest and public official members.

The Act provides that the Secretary shall ensure that all interests directly and materially affected by the work of the MHCC have the opportunity for fair and equitable participation without dominance by any single interest. The Secretary may reject the appointment of any one or more individuals to ensure that there is not dominance by any single interest. For purposes of this determination, dominance is defined as a position or exercise of dominant authority, leadership, or influence by reason of superior leverage, strength, or representation.

Additional requirements governing appointment and member service include:

(1) Nominees appointed to the User category and three of the individuals appointed to the General Interest and Public Official category shall not have a significant financial interest in any segment of the manufactured housing industry or a significant relationship to any person engaged in the manufactured housing industry.

(2) Each member serving in the User category shall be subject to a ban disallowing compensation from the manufactured housing industry during the period of, and during the one year following, his or her membership on the MHCC.

(3) Nominees selected for appointment to the MHCC shall be required to provide disclosures and certifications regarding conflict-of-interest and eligibility for membership prior to finalizing an appointment.

All selected nominees will be required to submit certifications of eligibility under the foregoing criteria, as a prerequisite to final appointment.

Consensus Committee—Advisory Role

The MHCC's role is solely to advise the Secretary on the subject matter described above.

Federal Advisory Committee Act

The MHCC is subject to the requirements of the Federal Advisory Committee Act (5 U.S.C. Ch. 10), 41 CFR part 102-3 (the FACA Final Rule), and to the Presidential Memorandum, dated June 18, 2010, directing all heads of executive departments and agencies not to make any new appointments or reappointments of federally registered lobbyists to advisory committees and other boards and commissions. The June 18, 2010, Presidential Memorandum authorized the Director of the Office of Management and Budget (OMB) to issue guidance to implement this policy. On August 13, 2014, OMB issued guidance regarding the prohibition against appointing or re-appointing federally registered lobbyists to clarify that the ban applies to persons serving on advisory committees, boards, and commissions in their individual capacity and does not apply if they are specifically appointed to represent the interests of a nongovernmental entity, a recognizable group of persons or nongovernmental entities (an industry sector, labor unions, environmental groups, etc.), or state or local governments (79 FR 47482).

Term of Office

MHCC members serve at the discretion of the Secretary or for a three-year term, up to two terms.

Nominee Information

Individuals seeking nomination to the MHCC should submit detailed information documenting their qualifications as addressed in the Act and this Notice. In furtherance of Executive Order 14035, Executive Order on Diversity, Equity, and Inclusion, and Accessibility in the Federal Workforce (86 FR 34593), HUD seeks for the MHCC to reflect the diversity of stakeholders in the housing market. The nomination website listed above, therefore, contains questions to elicit demographic information. Nominees may briefly summarize why they want to be a member of the MHCC and include unique skills, knowledge, and experiences that they would bring to inform the work of the committee. Individuals may nominate themselves. HUD recommends that the application for nomination be accompanied by a resume.

Additional Information

The Department will make appointments and reappointments from nominations submitted in response to this Notice. To be considered for appointment to a position of an MHCC member whose term will expire in December of 2023 or to fill any MHCC vacancy that currently exists, the application must be submitted by March 11, 2024. Appointments will be made at the discretion of the Secretary.

Julia R. Gordon,
Assistant Secretary for Housing—Federal Housing Commissioner.

[FR Doc. 2024-00180 Filed 1-8-24; 8:45 am]

BILLING CODE 4210-67-P